DEPARTMENT OF THE INTERIOR

Minerals Management Service

Environmental Documents Prepared for Proposed Oil and Gas Operations on the Gulf of Mexico Outer Continental Shelf (OCS)

AGENCY: Minerals Management Service, Interior.

ACTION: Notice of the Availability of Environmental Documents. Prepared for OCS Mineral Proposals on the Gulf of Mexico OCS.

SUMMARY: Minerals Management Service (MMS), in accordance with Federal Regulations that implement the National Environmental Policy Act (NEPA), announces the availability of NEPA-related Site-Specific Environmental Assessments (SEA) and Findings of No Significant Impact (FONSI), prepared by MMS for the following oil and gas activities proposed on the Gulf of Mexico OCS.

FOR FURTHER INFORMATION CONTACT: Public Information Unit, Information Services Section at the number below. Minerals Management Service, Gulf of Mexico OCS Region, Attention: Public Information Office (MS 5034), 1201 Elmwood Park Boulevard, Room 114, New Orleans, Louisiana 70123-2394, or by calling 1-800-200-GULF.

SUPPLEMENTARY INFORMATION: MMS prepares SEAs and FONSIs for proposals that relate to exploration for and the development/production of oil and gas resources on the Gulf of Mexico OCS. These SEAs examine the potential environmental effects of activities described in the proposals and present MMS conclusions regarding the significance of those effects. Environmental Assessments are used as a basis for determining whether or not approval of the proposals constitutes major Federal actions that significantly affect the quality of the human environment in the sense of NEPA Section 102(2)(C). A FONSI is prepared in those instances where MMS finds that approval will not result in significant effects on the quality of the human environment. The FONSI briefly presents the basis for that finding and includes a summary or copy of the SEA.

This notice constitutes the public notice of availability of environmental documents required under the NEPA Regulations.

This listing includes all proposals for which the Gulf of Mexico OCS Region prepared a FONSI in the period subsequent to publication of the preceding notice.

Activity/Operator | Location | Date
El Paso Production Oil & Gas Company, Structure Removal SEA ES/SR 05-051 | Matagorda Island, Block 652, Lease OCS-G 21307, located 20 miles from the nearest Texas shoreline | 4/5/2005
El Paso Production Oil & Gas Company, Structure Removal SEA ES/SR 99-140A | Main Pass (East), Block 227, Lease OCS-G 06825, located 55 miles from the nearest Louisiana shoreline | 4/8/2005
Virgin Offshore U.S.A., Inc., Structure Removal SEA ES/SR 05-047 | West Cameron, Block 151, Lease OCS-G 17764, located 21 miles from the nearest Louisiana shoreline | 4/8/2005
SPN Resources, LLC, Structure Removal SEA ES/SR 94-074A | West Cameron, Block 279, Lease OCS-G 03382, located 57 miles from the nearest Louisiana shoreline | 4/8/2005
El Paso Oil & Gas Company, Structure Removal SEA ES/SR 05-052, 05-053 | West Cameron, Block 132, Leases OCS-G 21970 & 00251, located 20 miles from the nearest Louisiana shoreline | 4/12/2005
Apache Corporation, Structure Removal SEA ES/SR 05-037 | Main Pass, Block 91, Lease OCS-G 19854, located 28 miles from the nearest Louisiana shoreline | 4/13/2005
Apache Corporation, Structure Removal SEA ES/SR 05-038 | West Cameron, Block 294, Lease OCS-G 04090, located 29 miles from the nearest Texas shoreline | 4/14/2005
Samson Contour Energy E & P, LLC, Structure Removal SEA ES/SR 05-069, 05-072 | Matagorda Island, Blocks 603 & 620, Leases OCS-G 10197 & 03087, located 20 miles from the nearest Texas shoreline | 4/18/2005
Callon Petroleum Operating Company, Structure Removal SEA ES/SR 05-067, 05-068 | Mobile, Block 908, Lease OCS-G 05071, located 8 miles from the Mississippi shoreline | 4/18/2005
Newfield Exploration Company, Structure Removal SEA ES/SR 05-056, 05-067 | Ship Shoal, Blocks 66 & 69, Leases OCS-G 03577 & 06736, located 5 miles from the nearest Louisiana shoreline | 4/18/2005
Noble Energy, Inc., Structure Removal SEA ES/SR 05-065 | South Timbalier, Block 163, Lease OCS-G 03177, located 32 miles from the nearest Louisiana shoreline | 4/18/2005
Noble Energy, Inc., Structure Removal SEA ES/SR 05-066 | Vermilion, Block 167, Lease OCS-G 04794, located 42 miles from the nearest Louisiana shoreline | 4/18/2005
Hunt Oil Company, Structure Removal SEA ES/SR 05-062 | Eugene Island, Block 189, Lease OCS-G 16357, located 32 miles from the nearest Louisiana shoreline | 4/19/2005
Dominion Exploration & Production, Inc., Structure Removal SEA ES/SR 05-017 | South March Island (South), Block 133, Lease OCS-G 11919, located 82 miles from the nearest Louisiana shoreline | 4/19/2005
Newfield Exploration Company, Structure Removal SEA ES/SR 05-058 | East Cameron, Block 230, Lease OCS-G 16255, located 68 miles from the nearest Louisiana shoreline | 4/20/2005
GOM Shelf, LLC, Structure Removal SEA ES/SR 05-075 through 05-078 | Matagorda Island, Blocks 654 & 669, Leases OCS-G 04546 & 04065, located 20 miles from the nearest Texas shoreline | 4/25/2005
Chevron U.S.A., Inc., Structure Removal SEA ES/SR 05-074 | South Marsh Island, Block 217, Lease OCS-G 00310, located 8 miles from the nearest Louisiana shoreline | 4/25/2005
Dominion Exploration & Production, Inc., Structure Removal SEA ES/SR 05-013 through 05-015 | West Cameron (South), Blocks 570 & 566, Leases OCS-G 05188 & 05348, located 105 miles from the nearest Louisiana shoreline | 4/25/2005
Devon Energy Production Company, L.P., Structure Removal SEA ES/SR 05-079 | Main Pass, Block 20, Lease OCS-G 21138, located 21 miles from the nearest Louisiana shoreline | 4/26/2005
Chevron, U.S.A., Inc., Structure Removal SEA ES/SR 05-082 | South Marsh, Block 241, Lease OCS 00310, located 12 miles from the nearest Louisiana shoreline | 4/26/2005
Devon Louisiana Corporation, Structure Removal SEA ES/SR 05-080 | Brazos, Block 439, Lease OCS-G 11272, located 10 miles from the nearest Texas shoreline | 4/28/2005
Apache Corporation, Structure Removal SEA ES/SR 05-081 | Ship Shoal, Block 192, Lease OCS-G 16390, located 32 miles from the nearest Louisiana shoreline | 4/28/2005
Bois d'Arc Offshore, Ltd., Structure Removal SEA ES/SR 05-083, 05-084, 05-085 | Ship Shoal, Blocks 113, 114 & 115, Leases OCS 00067, 00064 & 00069 respectively, located approximately 20 miles from the nearest Louisiana shoreline | 5/3/2005
Chevron U.S.A., Inc., Structure Removal SEA ES/SR 05-086, 90-50A | Eugene Island, Block 26, Lease OCS-G 03147, located 10 miles from the nearest Louisiana shoreline | 5/4/2005
Chevron U.S.A., Inc., Structure Removal SEA ES/SR 98-59A | Eugene Island, Block 64, Lease OCS-G 01865, located 15 miles from the nearest Louisiana shoreline | 5/4/2005
Chevron U.S.A., Inc., Structure Removal SEA ES/SR 05-060, 05-061 | Vermilion, Block 246, Lease OCS-G 01147, located 68 miles from the nearest Louisiana shoreline | 5/10/2005
Apache Corporation, Structure Removal SEA ES/SR 05-087 | West Cameron, Block 292, Lease OCS-G 06581, located 29 miles from the nearest Louisiana shoreline | 5/10/2005
Dominion Exploration & Production, Inc., Structure Removal SEA ES/SR 05-016 | Main Pass (South & East), Block 279, Lease OCS-G 16514, located 50 miles from the nearest Louisiana shoreline | 5/12/2005
Devon Louisiana Corporation, Structure Removal SEA ES/SR 05-094 | Brazon, Block 397, Lease OCS-G 22062, located 18 miles from the nearest Texas shoreline | 5/17/2005
Transcontinental Gas Pipeline Corporation, Structure Removal SEA ES/SR 05-093 | Eugene Island, Block 129A, Lease OCS-G 21638, located 28 miles from the nearest Louisiana shoreline | 5/17/2005
EOG Resources, Inc., Structure Removal SEA ES/SR 05-095, 05-096 | High Island, Block 207, Lease OCS-G 08151, located 22 miles from the nearest Louisiana shoreline | 5/23/2005
El Paso Production Oil & Gas Company, Structure Removal SEA ES/SR 05-049, 05-050 | High Island, Blocks A310 & A316, Leases OCS-G 03375 & 21358, located 100 miles from the nearest Texas shoreline | 5/23/2005
Louisiana Land and Exploration Company, Structure Removal SEA ES/SR 05-048 | Vermilion, Block 395, Lease OCS-G 11901, located 106 miles from the nearest Louisiana shoreline | 5/23/2005
Apache Corporation, Structure Removal SEA ES/SR 05-099, 05-100 | Eugene Island, Blocks 176 & 95, Leases OCS 00045 & 00046, located 44 miles and 10 miles, respectively, from the nearest Louisiana shoreline | 5/24/2005
Apache Corporation, Structure Removal SEA ES/SR 05-092 | South Marsh, Block 59, Lease OCS-G 12891, located 55 miles from the nearest Louisiana shoreline | 5/24/2005
GOM Shelf, LLC, Structure Removal SEA ES/SR 05-098 | Matagorda Island, Block 700, Lease OCS-G 03108, located 18 miles from the nearest Texas shoreline | 5/25/2005
Chevron U.S.A., Inc., Structure Removal SEA ES/SR 93-031A | Ship Shoal, Block 108, Lease OCS 00814, located 15 miles from the nearest Louisiana shoreline | 5/25/2005
Chevron, U.S.A., Inc., Structure Removal SEA ES/SR 95-056A | Ship Shoal, Block 108, Lease OCS 00814, located 16 miles from the nearest Louisiana shoreline | 5/25/2005
Callon Petroleum Operating Company, Structure Removal SEA ES/SR 05-101 | Chandeleur (East), Block 40, Lease OCS-G 06842, located 20 miles from the nearest Mississippi shoreline | 6/1/2005
Shell Offshore, Inc., Initial Exploration Plan SEA N-8379 | Mississippi Canyon, Block 393, Lease OCS-G 26254 and DeSoto Canyon, Blocks 353, 397 & 398, Leases OCS-G 25852, 25853 & 25854 respectively, located 78 miles to the nearest Louisiana shoreline, 113 miles to the nearest Alabama shoreline and 119 miles to the nearest Florida shoreline | 6/2/2005
GOM Shelf, LLC, Structure Removal SEA ES/SR 05-097 | Mustang Island, Block A16, Lease OCS-G 03011, located 42 miles from the nearest Texas shoreline | 6/2/2005
Newfield Exploration Company SEA ES/SR 05-108 | High Island, Block A304, Lease OCS-G 17209, located 92 miles from the nearest Texas shoreline | 6/3/2005
El Paso Production Oil & Gas Company SEA ES/SR 05-102, 05-103 | Vermilion, Blocks 274 & 289, Leases OCS-G 15200 & 04213, located 75 miles from the nearest Louisiana shoreline | 6/3/2005
Apache Corporation, Structure Removal SEA ES/SR 05-1007 | Main Pass, Block 92, Lease OCS-G 01500, located 30 miles from the nearest Louisiana shoreline | 6/7/2005
Apache Corporation, Structure Removal SEA ES/SR 05-088, 05-089, 05-090, 05-091 | Eugene Island, Block 189, Lease OCS-G 00423, located 32 miles from the nearest Louisiana shoreline | 6/8/2005
EOG Resources, Inc., Structure Removal SEA ES/SR 05-073, 97-094A | Viosca Knoll, Block 32, Lease OCS-G 07871, located 20 miles from the nearest Alabama shoreline | 6/8/2005
Forest Oil Corporation, Structure Removal SEA ES/SR 05-105 | West Cameron, Block 205, Lease OCS-G 02832, located 34 miles from the nearest Louisiana shoreline | 6/13/2005
Dominion Exploration & Production, Inc., Structure Removal SEA ES/SR 99-065A | Vermilion, Block 313, Lease OCS-G 01172, located 90 miles from the nearest Louisiana shoreline | 6/23/2005
Virgin Offshore U.S.A., Inc., Structure Removal SEA ES/SR 05-114, 05-115 | East Cameron, Block 2, Lease OCS-G 10605, located 5 miles from the nearest Louisiana shoreline | 6/25/2005
Transcontinental Gas Pipe Line Corporation, Structure Removal SEA ES/SR 05-110 | Vermilion, Block 131, Lease OCS-G 01341, located 32 miles from the nearest Louisiana shoreline | 6/25/2005
Newfield Exploration Company, Structure Removal SEA ES/SR 05-059 | Eugene Island, Block 315, Lease OCS-G 02112, located 72 miles from the nearest Louisiana shoreline | 6/28/2005
Newfield Exploration Company, Structure Removal SEA ES/SR 05-054, 05-055 | High Island, Blocks A-355 & A-471, Leases OCS-G 14287 & 16255, respectively, located 120 miles from the nearest Texas shoreline | 6/28/2005

Persons interested in reviewing environmental documents for the proposals listed above or obtaining information about SEAs and FONSIs prepared for activities on the Gulf of Mexico OCS are encouraged to contact MMS at the address or telephone listed in the FOR FURTHER INFORMATION CONTACT section.

Dated: July 8, 2005.
Chris C. Oynes,
Regional Director, Gulf of Mexico OCS Region.

[FR Doc. 05-16053 Filed 8-11-05; 8:45 am]

BILLING CODE 4310-MR-P